DEPARTMENT OF THE INTERIOR

Fish and Wildlife Service

[FWS-HQ-WSFR-2016-N052; FVWF94100900000-XXX-FF09W23000; FVWF51100900000-XXX-FF09W23000]

Information Collection Request Sent to the Office of Management and Budget (OMB) for Approval; Annual Certification of Hunting and Sport Fishing Licenses Issued

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on March 31, 2016. We may not conduct or sponsor and a person is not required to respond to a collection of information unless it displays a currently valid OMB control number. However, under OMB regulations, we may continue to conduct or sponsor this information collection while it is pending at OMB.

DATES: You must submit comments on or before April 25, 2016.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-0007” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0007.

Title: Annual Certification of Hunting and Sport Fishing Licenses Issued, 50 CFR 80, subpart D.

Service Form Numbers: 3-154a and 3-154b.

Type of Request: Extension of a currently approved collection.

Estimated Number of Respondents: 56.

Description of Respondents: States, territories (Commonwealth of Puerto Rico, Commonwealth of the Northern Mariana Islands, Guam, U.S. Virgin Islands, and American Samoa), and District of Columbia.

Respondent's Obligation: Required to obtain or retain a benefit.

Frequency of Collection: Annually.

Activity | Number of responses | Completion time per response (hours) | Total annual burden hours
FWS Form 3-154a | 56 | 12 | 672
FWS Form 3-154b | 56 | 20 | 1,120
Totals | 112 |  | 1,792

Estimated Annual Nonhour Burden Cost: None.

Abstract: The Pittman-Robertson Wildlife Restoration Act (16 U.S.C. 669 et seq.) and the Dingell-Johnson Sport Fish Restoration Act (16 U.S.C. 777 et seq., except 777e-1) provide authority for Federal assistance to the States for management and restoration of fish and wildlife. These Acts and our regulations in the Code of Federal Regulations (CFR) at 50 CFR 80, subpart D, require that States, territories, and the District of Columbia annually certify their hunting and fishing license sales. States, territories, and the District of Columbia that receive grants under these Acts use FWS Forms 3-154a (Part I-Certification) and 3-154b (Part II-Summary of Hunting and Sport Fishing Licenses Issued) to certify the number of hunting and fishing licenses sold and the amount of sales. We use the information collected to apportion and distribute funds according to the formula specified in each Act.

Comments Received and Our Responses

Comments: On December 23, 2015, we published in the Federal Register (80 FR 79924) a notice of our intent to request that OMB renew approval for this information collection. In that notice, we solicited comments for 60 days, ending on February 22, 2016. We received one comment in response to this notice. The respondent objected to the Wildlife Restoration Act, but did not address the information collection requirements. We did not make any changes to our requirements.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: March 21, 2016.
Tina A. Campbell,
Chief, Division of Policy, Performance, and Management Programs, U.S. Fish and Wildlife Service.

[FR Doc. 2016-06781 Filed 3-24-16; 8:45 am]

BILLING CODE 4333-15-P